DEPARTMENT OF ENERGY

Federal Energy Regulatory Commission

[Docket No. RP03-516-000]

Enbridge Pipelines (AlaTenn) L.L.C.; Notice of Tariff Filing

June 12, 2003.

Take notice that on June 6, 2003, Enbridge Pipelines (AlaTenn) L.L.C. (AlaTenn) tendered for filing as part of its FERC Gas Tariff, Fourth Revised Volume No. 1, First Revised Sheet No. 192, to be effective July 1, 2003. AlaTenn states that it is filing this tariff sheet to remove provisions from its FERC Gas Tariff that address whether operating employees and facilities are shared with its marketing affiliate and substitute new provisions indicating that such information will be posted on AlaTenn's website, consistent with Commission policy.

AlaTenn states that copies of its filing have been mailed to all affected customers of AlaTenn and interested state commissions. Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 18, 2003.

Magalie R. Salas,
Secretary.

[FR Doc. 03-15434 Filed 6-18-03; 8:45 am]

BILLING CODE 6717-01-P